DEPARTMENT OF LABOR

Office of the Secretary

Submission for OMB Review: Comment Request

February 2, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained at http://www.reginfo.gov/public/do/PRAMain, or contact Ira Mills on 202-693-4122 (this is not a toll-free number) or e-mail: Mills.Ira@dol.gov.

Comments should be sent to the Office of Information and Regulatory Affairs, Attn: OMB Desk Officer for U.S. Department of Labor/Employment and Training Administration (ETA), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Job Corps Application Data.

OMB Number: 1205-0025.

Frequency: On occasion.

Affected Public: Individuals or households; Business or other for-profit; Not-for-profit institutions; and State, Local, or Tribal Government.

Type of Response: Recordkeeping and Reporting.

Number of Respondents: 87,943.

Annual Responses: 92,159.

Average Response Time: 11 minutes.

Total Annual Burden Hours: 16,158.

Total Annualized Capital/Startup Costs: 0.

Total Annual Costs (operating/maintaining systems or purchasing services): 0.

Description: ETA 652, 655, and 682 are used to obtain information for screening and enrollment purposes to determine eligibility for the Job Corps program in accordance with the requirements of the Workforce Investment Act. They concern questions of economic criteria, past behavior problems and to certify an applicant's arrangements for the care of a dependent child(ren) while the applicant is in Job Corps.

Ira L. Mills,
Departmental Clearance Officer/Team Leader.

[FR Doc. E7-2012 Filed 2-6-07; 8:45 am]

BILLING CODE 4510-30-P